DEPARTMENT OF TRANSPORTATION

Federal Motor Carrier Safety Administration

[Docket No. FMCSA-2011-0024]

Qualification of Drivers; Exemption Applications; Vision

AGENCY: Federal Motor Carrier Safety Administration (FMCSA), DOT.

ACTION: Notice of applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before April 28, 2011.

ADDRESSES: You may submit comments bearing the Federal Docket Management System (FDMS) Docket No. FMCSA-2011-0024 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 16 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

David W. Bennett

Mr. Bennett, age 48, has had amblyopia in his left eye since childhood. The best corrected visual acuity in his right eye is 20/20 and in his left eye, 20/60. Following an examination in 2011, his ophthalmologist noted, “Mr. Bennett has sufficient vision to perform the driving task of driving a commercial vehicle.” Mr. Bennett reported that he has driven straight trucks for 5 years, accumulating 218,750 miles and tractor-trailer combinations for 13 years accumulating 1.4 million miles. He holds a Class A Commercial Driver's License (CDL) from North Carolina. His driving record for the last 3 years shows no crashes and no convictions for moving violations in a CMV.

Toby L. Carson

Mr. Carson, 43, has a history of congenital cataracts. The best corrected visual acuity in his right eye is 20/150 and in his left eye, 20/20. Following an examination in 2010, his ophthalmologist noted, “Toby Carson has sufficient vision to perform the driving tasks required to operate a commercial vehicle.” Mr. Carson reported that he has driven straight trucks for 15 years, accumulating 200,000 miles and tractor-trailer combinations for 10 years accumulating 300,000 miles. He holds a Class A CDL from Tennessee. His driving record for the last 3 years shows no crashes and no convictions for moving violations in a CMV.

Fredrick M. DeHoff, Jr.

Mr. Dehoff, 53, has had amblyopia in his right eye since childhood. The best corrected visual acuity in his right eye is 20/50 and in his left eye, 20/20. Following an examination in 2010, his optometrist noted, “Fredrick, by vision examination, appears to have sufficient vision to operate a commercial vehicle.” Mr. DeHoff reported that he has driven straight trucks for 15 years, accumulating 187,500 miles. He holds a Class A CDL from Indiana. His driving record for the last 3 years shows no crashes and no convictions for moving violations in a CMV.

Raul Donozo

Mr. Donozo, 35, has had loss of vision in his left eye since 1998. The best corrected visual acuity in his right eye is 20/20. Following an examination in 2011, his ophthalmologist noted, “In my opinion, the patient has sufficient vision for driving including commercial vehicles.” Mr. Donozo reported that he has driven straight trucks for 8 years, accumulating 417,600 miles. He holds a Class C operator's license from California. His driving record for the last 3 years shows no crashes and no convictions for moving violations in a CMV.

Rick A. Ervin

Mr. Ervin, 39, has had amblyopia in his left eye since childhood. The best corrected visual acuity in his right eye is 20/20 and in his left eye, hand motion vision. Following an examination in 2011, his optometrist noted, “Mr. Erwin's left eye amblyopia is of long-standing and he has adapted well to his condition, and in my medical opinion, has sufficient vision to perform the driving tasks to operate a commercial vehicle.” Mr. Ervin reported that he has driven straight trucks 17 years, accumulating 510,000 miles. He holds a Class B CDL from New Mexico. His driving record for the last 3 years shows no crashes and no convictions for moving violations in a CMV.

Clifford D. Johnson

Mr. Johnson, 44, has ocular trauma in his left eye sustained 25 years ago. The best corrected visual acuity in his right eye is 20/20 and in his left eye, no light perception. Following an examination in 2010, his optometrist noted, “In my opinion Mr. Johnson has sufficient vision to perform the driving tasks required to operate a commercial vehicle.” Mr. Johnson reported that he has driven straight trucks 25 years, accumulating 700,000 miles and tractor-trailer combinations for 15 years accumulating 495,000 miles. He holds a Class A CDL from Virginia. His driving record for the last 3 years shows one crash for which he was cited and no convictions for moving violations in a CMV.

Dionicio Mendoza

Mr. Mendoza, 34, has a prosthetic right eye due to a traumatic injury that occurred at age 2. The visual acuity in his left eye is 20/20. Following an examination in 2010, his optometrist noted, “After a full eye health examination, this patient has sufficient vision to perform the driving tasks required to operate a commercial vehicle.”

Mr. Mendoza reported that he has driven tractor-trailer combinations for 5 years, accumulating 224,500 miles. He holds a Class A CDL from Texas. His driving record for the last 3 years shows no crashes and no convictions for moving violations in a CMV.

David Kibble

Mr. Kibble, 48, has had a disciform central macular scar of his right eye due to a traumatic injury to his right eye that occurred 30 years ago. The best corrected visual acuity in his right eye is 20/400 and in his left eye, 20/20. Following an examination in 2010, his optometrist noted, “He has sufficient vision to perform driving tasks to operate a commercial vehicle.” Mr. Kibble reported that he has driven straight trucks 30 years, accumulating 450,000 miles. He holds a Class C operator's license from Pennsylvania. His driving record for the last 3 years shows no crashes and no convictions for moving violations in a CMV.

Raymond J. Paiz

Mr. Paiz, 60, has monocular vision due to a traumatic injury to his left eye that occurred 30 years ago. The visual acuity in his right eye is 20/20. Following an examination in 2010, his optometrist noted, “In my optometric opinion, Mr. Paiz has sufficient vision and peripheral vision to enable him to perform the driving tasks necessary to operate a commercial vehicle.” Mr. Paiz reported that he has driven straight trucks 35 years, accumulating 1.8 million miles and tractor-trailer combinations for 35 years accumulating 1.8 million miles. He holds a Class A CDL from California. His driving record for the last 3 years shows no crashes and no convictions for moving violations in a CMV.

Tyler R. Peebles

Mr. Peebles, 23, has retinal detachment and traumatic cataract in his left eye due to a traumatic injury to his left eye. The best corrected visual acuity in his right eye is 20/20 and in his left eye, 20/50. Following an examination in 2010, his optometrist noted, “I feel Mr. Peebles has adequate vision to perform the driving tasks required to operate a commercial vehicle.” Mr. Peebles reported that he has driven straight trucks for 3 years, accumulating 61,500 miles and tractor-trailer combinations for 3 years accumulating 292,500 miles. He holds a Class A CDL from Ohio. His driving record for the last 3 years shows no crashes but two convictions for speeding in a CMV. In the first incident, he exceeded the speed limit by 10 miles per hour (MPH), in the second incident, he exceeded the speed limit by 8 MPH. He has another conviction for failure to obey a traffic sign.

Alfredo Reyes

Mr. Reyes, 57, has had amblyopia in his left eye since childhood. The best corrected visual acuity in his right eye is 20/20 and in his left eye, 20/60. Following an examination in 2010, his optometrist noted, “I can see no reason why he can not perform the visual tasks necessary to drive any type of vehicle including commerical vehicles.” Mr. Reyes reported that he has driven straight trucks for 15 years, accumulating 600,000 miles and tractor-trailer combinations for 20 years accumulating 2.1 million miles. He holds a Class A CDL from Texas. His driving record for the last 3 years shows no crashes and no convictions for moving violations in a CMV.

Ronald M. Robinson

Mr. Robinson, 60, has monocular vision due to a traumatic injury to his right eye that occurred 40 years ago. The visual acuity in his left eye is 20/20. Following an examination in 2010, his optometrist noted, “In my opinion, Mr. Robinson has full capability to operate a commerical vehicle provided that it has the standard right and left outsider rearview mirrors.” Mr. Robinson reported that he has driven straight trucks 20 years, accumulating 300,000 miles. He holds a Class D operator's license from Kentucky. His driving record for the last 3 years shows no crashes and no convictions for moving violations in a CMV.

J. Bernando Rodriguez

Mr. Rodriguez, 47, has had strabismic amblyopia in his left eye since childhood. The best corrected visual acuity in his right eye is 20/20 and in his left eye, 20/400. Following an examination in 2010, his optometrist noted, “I. Dr. Edgardo Amaro, certify that in my medical opinion, patient J. Bernardo Rodriguez, has sufficient vision to perform the driving tasks required to operate a commerical vehicle as he has been doing in the past 10 years.” Mr. Rodriguez reported that he has driven tractor-trailer combinations 8 years accumulating 800,000 miles. He holds a Class A CDL from Texas. His driving record for the last 3 years shows no crashes and no convictions for moving violations in a CMV.

Esequiel Rodriguez, Jr.

Mr. Rodriguez, 38, has had a macular scar in his right eye since birth. The visual acuity in his right eye is 20/200 and in his left eye, 20/20. Following an examination in 2010, his optometrist noted, “He is fully capable of operating a commerical vehicle.” Mr. Rodriguez reported that he has driven tractor-trailer combinations 7 years accumulating 805,000 miles. He holds a Class A CDL from Texas. His driving record for the last 3 years shows no crashes and no convictions for moving violations in a CMV.

David I. Sosby

Mr. Sosby, 60, has had amblyopia in his left eye since childhood. The best corrected visual acuity in his right eye is 20/20 and in his left eye, 20/200. Following an examination in 2010, his optometrist noted, “I Renapate, OD, hereby certify David Sosby to be visually able to safely operate a commerical motor vehicle.” Mr. Sosby reported that he has driven tractor-trailer combinations 30 years accumulating 2.4 million miles. He holds a Class A CDL from Kentucky. His driving record for the last 3 years shows no crashes and no convictions for moving violations in a CMV.

Donald E. Stone

Mr. Stone, 54, has optic atrophy in his left eye due to a traumatic injury. The best corrected visual acuity in his right eye is 20/15 and in his left eye, hand motion vision. Following an examination in 2010, his optometrist noted, “It is my opinion that Mr. Stone has sufficient vision to operate a commerical motor vehicle.” Mr. Stone reported that he has driven straight trucks 10 years, accumulating 900,000 miles and tractor-trailer combinations for 17 years accumulating 1.8 million miles. He holds a Class A CDL from Virginia. His driving record for the last 3 years shows no crashes and no convictions for moving violations in a CMV.

Request for Comments

In accordance with 49 U.S.C. 31136(e) and 31315, FMCSA requests public comment from all interested persons on the exemption petitions described in this notice. The Agency will consider all comments received before the close of business April 28, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: March 16, 2011.
Larry W. Minor,
Associate Administrator for Policy.

[FR Doc. 2011-7258 Filed 3-28-11; 8:45 am]

BILLING CODE 4910-EX-P